DEPARTMENT OF ENERGY

Federal Energy Regulatory Commission

[Docket Nos. ER00-231-002 and EL00-22-002]

The Cincinnati Gas & Electric Company; Notice of Filing

September 19, 2000.

Take notice that on September 13, 2000, The Cincinnati Gas & Electric Company tendered for filing its refund compliance report in the above-captioned dockets.

The compliance report has been served on the public utility commissions of the States of Kentucky, Indiana and Ohio, affected wholesale customers, and all persons on the service list.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before October 4, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-24513 Filed 9-22-00; 8:45 am]

BILLING CODE 6717-01-M